DEPARTMENT OF ENERGY

Federal Energy Regulatory Commission

[Docket No. RP08-429-000]

Trunkline LNG Company, LLC; Notice of Technical Conference

August 13, 2008.

Take notice that the Commission will convene a technical conference in the above-referenced proceeding on Tuesday, September 9, 2008, at 10 a.m. (EDT), in a room to be designated at the offices of the Federal Energy Regulatory Commission, 888 First Street, NE., Washington, DC 20426.

The technical conference will address all issues raised by Trunkline LNG Company, LLC's (TLNG) June 30, 2008 filing in the referenced docket. Most significantly, TLNG should be prepared to fully explain its methodology for determining the throughput projections it uses in calculating its Fuel Reimbursement Percentages and Electric Power Cost Adjustments. Any party proposing alternatives to TLNG's proposals should be prepared to fully support its position.

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Sandra Elliott at (202) 502-8694 or e-mail Sandra.Elliott@ferc.gov.

Nathaniel J. Davis, Sr.,
Deputy Secretary.

[FR Doc. E8-19206 Filed 8-19-08; 8:45 am]

BILLING CODE 6717-01-P